DEPARTMENT OF COMMERCE

National Oceanic and Atmospheric Administration

[I.D. 042505B]

Western Pacific Fishery Management Council; Public Meeting

AGENCY: National Marine Fisheries Service (NMFS), National Oceanic and Atmospheric Administration (NOAA), Commerce.

ACTION: Notice of public meeting.

SUMMARY: The 89th meeting of the Western Pacific Fishery Council's Scientific and Statistical Committee (SSC) will convene in May 2005. Agenda topics are provided under the SUPPLEMENTARY INFORMATION section of this notice.

DATES: The meeting will be held from 8:30 a.m. to 5 p.m. each day on May 17-19, 2005.

ADDRESSES: The 89th SSC meeting will be held at the Council office conference room, 1164 Bishop St., Suite 1400, Honolulu, HI; telephone: 808-522-8220.

FOR FURTHER INFORMATION CONTACT: Kitty M. Simonds, Executive Director; telephone 808-522-8220.

SUPPLEMENTARY INFORMATION: The SSC will discuss and may make recommendations to the Council on the agenda items below. The order in which agenda items will be addressed can change.

Agenda

Tuesday, May 17, 2005

1. Introductions

2. Approval of Draft Agenda and Assignment of Rapporteurs

3. Approval of the Minutes of the 88th SSC Meeting

4. Insular Fisheries

A. Bottomfish Management

1. Report on Northwestern Hawaiian Islands Bottomfish Habitat Study

2. Main Hawaiian Islands Bottomfish Overfishing Plan (Action Item)

B. Black Coral Management

1. State of Hawaii Research

2. Black Coral Management Options (Action Item)

C. Bottomfish Plan Team Recommendations

D. Precious Coral Plan Team Recommendations

E. Public Comment

F. Discussion and Recommendations

5. Ecosystem and Habitat

A. Marine Protected Area Objectives and Criteria DRAFT (Action Item)

B. Ecosystem-Based Fishery Management Workshop

C. Report on Marianas Fisheries Ecosystem Plan Pilot Project

D. Coral Reef Plan Team Recommendations

E. Public Comment

F. Discussion and Recommendations

Wednesday, May 18, 2005

6. Pelagics Fisheries

A. Bigeye Overfishing Plan (Action Item)

1. International

2. Domestic Federal Permits and Reporting

B. American Samoa & Hawaii Longline Fisheries Quarterly Reports

C. International Issues

D. Plan Team Recommendations

E. Public Comment

F. Discussion and Recommendations

7. Protected Species

A. Sea Turtles

1. Technical Assistance Workshop

2. Ridleys Sea Turtle Biological Opinion

3. Report on the Turtle Advisory Committee

B. Marine Mammals

1. Report on Marine Mammal Advisory Committee

C. Public Comment

D. Discussion and Recommendations

Thursday, May 19, 2005

8. Other Business

A. 90th SSC meeting

9. Summary of SSC Recommendations to the Council Paul Callaghan

Special Accommodations

This meeting is physically accessible to people with disabilities. Requests for sign language interpretation or other auxiliary aids should be directed to Kitty M. Simonds, 808-522-8220 (voice) or 808-522-8226 (fax), at least 5 days prior to meeting date.

Dated: April 25, 2005.
Peter H. Fricke
Acting Director, Office of Sustainable Fisheries, National Marine Fisheries Service.

[FR Doc. 05-8525 Filed 4-27-05; 8:45 am]

BILLING CODE 3510-22-S